DEPARTMENT OF THE TREASURY

Internal Revenue Service

26 CFR Part 301

[REG-140930-02]

RIN 1545-BB15

Testimony or Production of Records in a Court or Other Processing; Correction

AGENCY: Internal Revenue Service (IRS), Treasury.

ACTION: Correction to notice of proposed rulemaking.

SUMMARY: This document contains proposed amendments to the existing regulation that establishes the procedures to be followed by IRS officers and employees upon receipt of a request or demand for disclosure of IRS records or information.

DATES: This correction is effective July 9, 2003.

FOR FURTHER INFORMATION CONTACT: David Fish (202) 622-4590 (not a toll-free number).

SUPPLEMENTARY INFORMATION:

Background

The proposed regulations that are the subject of this correction are under section 301 of the Internal Revenue Code.

Need for Correction

As published on July 9, 2003 (68 FR 40850), the notice of proposed rulemaking (REG-140930-02) contains errors that may prove to be misleading and are in need of clarification.

Correction of Publication

Accordingly, the publication of the notice of proposed rulemaking (REG-140930-02), which was the subject of FR Doc. 03-17230, is corrected as follows:

On page 40851, column 1, in the preamble, under the subject heading “Paperwork Reduction Act”, third paragraph from the bottom, last line of the paragraph, the language “responses: 1,400.” is corrected to read “responses: On occasion.”

Cynthia E. Grigsby,
Acting Chief, Publications and Regulations Branch, Legal Processing Division, Associate Chief Counsel (Procedures and Administration).

[FR Doc. 03-23318 Filed 9-11-03; 8:45 am]

BILLING CODE 4830-01-P